DEPARTMENT OF HEALTH AND HUMAN SERVICES

National Institutes of Health

National Cancer Institute; Amended Notice of Meeting

Notice is hereby given of a change in the meeting of the National Cancer Advisory Board, February 27, 2012, 6:30 PM to February 29, 2012, 12:00 PM, National Institutes of Health, Building 31, 31 Center Drive, 10, Bethesda, MD 20892 which was published in the Federal Register on January 18, 2012, 77 FR 2557-2558.

This notice is being amended to add the NCAB Subcommittee on Clinical Investigations meeting on February 27, 2012, 5 p.m. to 6:30 p.m. at the Hyatt Regency Bethesda Hotel, One Metro Center, Bethesda, MD 20814. The NCAB Ad Hoc Subcommittee on Global Cancer Research will still convene on February 27, 2012, 6:30 p.m. to 8 p.m. The National Cancer Advisory Board meeting has been changed to February 28, 2012 from 9 a.m. to 5 p.m., instead of February 28-29, 2012. The meeting is partially closed to the public.

Dated: February 10, 2012.
Jennifer S. Spaeth,
Director, Office of Federal Advisory Committee Policy.

[FR Doc. 2012-3430 Filed 2-13-12; 8:45 a.m.]

BILLING CODE 4140-01-P